DEPARTMENT OF ENERGY

Federal Energy Regulatory Commission

Notice of Intent To File Application for a New License

April 1, 2002.

Take notice that the following notice of intent has been filed with the Commission and is available for public inspection:

a. Type of filing: Notice of Intent to File an Application for New License.

b. Project No: 2170.

c. Date filed: March 1, 2002.

d. Submitted By: Chugach Electric Association, Inc.

e. Name of Project: Cooper Lake Hydroelectric Project.

f. Location: Project is located near Cooper Landing on the Kenai Peninsula in south-central Alaska.

g. Filed Pursuant to: Section 15 of the Federal Power Act, 18 CFR 16.6.

h. Pursuant to Section 16.19 of the Commission's regulations, the licensee is required to make available the information described in Section 16.7 of the regulations. Such information is available from the licensee in the Planning Department Library, Chugach Electric Association, Inc., 5601 Minnesota Drive, Anchorage, Alaska 99518.

i. FERC Contact: Vince Yearick, 202-219-3073, Vince.Yearick@Ferc.Gov.

j. Expiration Date of Current License: April 30, 2007.

k. Project Description: Cooper Lake Dam, powerhouse containing two turbine, A tunnel, conduit, and penstock with two transmission lines. The installed capacity is 19.4 megawatts.

l. The licensee states its unequivocal intent to submit an application for A new license for Project No. 2170 Pursuant to 18 CFR 16.9(b)(1) each application for A new license and any competing license applications must be filed with the Commission at least 24 months prior to the expiration of the existing license. All applications for license for this project must be filed by April 30, 2005.

A copy of the notice of intent is available for inspection and reproduction at the Commission's Public Reference Room, located at 888 First Street, NE., Room 2A, Washington, DC 20426, or by calling (202) 208-1371. The notice may be viewed on http://www.ferc.fed.gov using the “RIMS” link, select “Docket #” and follow the instructions (call (202) 208-2222 for assistance). A copy is also available for inspection and reproduction at the address in item h above.

Magalie R. Salas,
Secretary.

[FR Doc. 02-8237 Filed 4-4-02; 8:45 am]

BILLING CODE 6717-01-P